DEPARTMENT OF HEALTH AND HUMAN SERVICES

Office of the Secretary; Meeting of the Secretary's Council on National Health Promotion and Disease Prevention Objectives for 2010

AGENCY: Office of Public Health and Science, Office of Disease Prevention and Health Promotion.

ACTION: Notice of fourth meeting.

SUMMARY: The Department of Health and Human Services (HHS) is providing notice that the Secretary's Council on National Health Promotion and Disease Prevention Objectives for 2010 will hold its fourth annual meeting, as mandated by its charter. Council members are charged with advising the Secretary on the development and implementation of objectives for the Healthy People 2010 initiative. In this meeting, they will discuss with invited non-Federal representatives ways to engage the energies of partnering organizations in collaboration to achieve the objectives, with a particular focus on the elimination of disparities in health.

DATES: The Council will hold its next meeting on September 12, 2000 from 9:00 a.m. to approximately 4:30 p.m. E.D.T.

ADDRESSES: Department of Health and Human Services, Sixth floor conference room, Hubert H. Humphrey Building, 200 Independence Avenue, SW., Washington, DC 20201. The meeting is open to the public; seating is limited.

FOR FURTHER INFORMATION CONTACT: Ellis Davis, Office of Disease Prevention and Health Promotion, Room 738G, Hubert H. Humphrey Building, 200 Independence Avenue, SW., Washington, DC 20201, (202) 260-2873. The electronic mail address is: edavis@osophs.dhhs.gov

SUPPLEMENTARY INFORMATION: The Council was established by charter on September 5, 1996 to provide assistance to the Secretary and the Department of Health and Human Services in the development and implementation of health promotion and disease prevention objectives to enhance the health of Americans by 2010. The charter was renewed on September 4, 1998 and is scheduled for a further renewal on September 5, 2000. The Council meets approximately once a year and will terminate on September 5, 2002.

The Council is charged to advise the Secretary on the achievement of national health promotion and disease prevention goals and objectives and to provide links with States, communities, and the private sector to ensure their involvement as collaborators in the on-going process. The Secretary of Health and Human Services chairs the Council, with the Assistant Secretary for Health as Vice Chair. Other members include the Operating Division Heads of the Department and the former Assistant Secretary for Health. Management and support services are provided by the Office of Disease Prevention and Health Promotion, Office of Public Health and Science, Office of the Secretary.

During its tenure, the Council has overseen the development of Healthy People 2010, the third generation of a national initiative to prevent disease and promote the health of the American people. The 2010 initiative was released to the public on January 25, 2000. At its fourth meeting, the Council will address plans for implementing the initiative over the next ten years and strategies for involving the widest possible range of public and private sector organizations in efforts to realize the aims of the initiative. Joining the members in their discussions will be panelists representing State and local governments, voluntary and professional associations, the business world, and schools, civic and faith-based organizations. The meeting will give special attention to the challenge of eliminating by the year 2010 disparities between U.S. population groups with respect to health status.

If time permits at the conclusion of the formal agenda of the Council, the Chair may allow brief oral statements of no more than three minutes in length from interested parties and persons in attendance. The meeting is open to the public; however, seating is limited. Because of strict security in the Humphrey Building, members of the public who do not have a Federal government identification card should call Ms. Phyllis Carroll (202-205-8611) when they arrive in the building lobby to arrange for an escort to the meeting. If you will require a sign language interpreter, please call Ms. Carroll by 4:30 p.m. E.D.T. on August 29, 2000 to inform her of this need.

Dated: August 4, 2000.
Randolph F. Wykoff,
Deputy Assistant Secretary for Health, (Disease Prevention and Health Promotion).

[FR Doc. 00-20620 Filed 8-14-00; 8:45 am]

BILLING CODE 4160-17-M